DEPARTMENT OF THE INTERIOR

National Park Service

[NPS-WASO-NAGPRA-NPS0034953; PPWOCRADN0-PCU00RP14.R50000]

Notice of Intent To Repatriate Cultural Items: Beloit College, Logan Museum of Anthropology, Beloit, WI

AGENCY: National Park Service, Interior.

ACTION: Notice.

SUMMARY: In accordance with the Native American Graves Protection and Repatriation Act (NAGPRA), the Beloit College, Logan Museum of Anthropology (LMA) intends to repatriate certain cultural items that meet the definition of unassociated funerary objects and that have a cultural affiliation with the Indian Tribes or Native Hawaiian organizations in this notice. The cultural items were removed from the Moundville archeological site (1TU500), in Tuscaloosa County, Alabama.

DATES: Repatriation of the cultural items in this notice may occur on or after January 4, 2023.

ADDRESSES: Nicolette B. Meister, Beloit College, Logan Museum of Anthropology, 700 College Street, Beloit, WI 53511, telephone (608) 363-2305, email meistern@beloit.edu.

SUPPLEMENTARY INFORMATION: This notice is published as part of the National Park Service's administrative responsibilities under NAGPRA. The determinations in this notice are the sole responsibility of the LMA. The National Park Service is not responsible for the determinations in this notice. Additional information on the determinations in this notice, including the results of consultation, can be found in the summary or related records held by the LMA.

Description

In 1905 or 1906, two funerary objects were removed from a burial at the Moundville archeological site by Clarence Bloomfield Moore. The LMA has no knowledge concerning the whereabouts of the human remains in the burial. On an unknown date, the LMA acquired these items from Moore. The unassociated funerary objects are one reconstructed and shell tempered Bell Plain ceramic bowl (16097) and a partially reconstructed and incomplete shell tempered Lamar Incised possible duck effigy bowl (16099). The Bell Plain bowl was recovered from the ground north of Mound C and was identified as Vessel No. 4 by Moore. The Lamar Incised bowl was recovered from the ground south of Mound D and were identified as Vessel No. 25 by Moore.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: linguistic, oral traditional, geographical, kinship, biological, archeological, historical, and anthropological. In addition, the Native American Graves Protection and Repatriation Review Committee has found, by a preponderance of the evidence, that a cultural affiliation exists between human remains and funerary objects originating from, and adjacent to, the Moundville archeological site (1TU500) and the present-day Muskogean-speaking Indian Tribes. This finding was published in the Federal Register on February 1, 2022.

Determinations

Pursuant to NAGPRA and its implementing regulations, and after consultation with the appropriate Indian Tribes and Native Hawaiian organizations, the LMA has determined that:

• The two cultural items objects described above are reasonably believed to have been placed with or near individual human remains at the time of death or later as part of the death rite or ceremony and are believed, by a preponderance of the evidence, to have been removed from a specific burial site of a Native American individual.

• There is a relationship of shared group identity that can be reasonably traced between the cultural items and Muskogean-speaking Indian Tribes that include the Alabama-Coushatta Tribe of Texas (previously listed as Alabama-Coushatta Tribes of Texas); Coushatta Tribe of Louisiana; Jena Band of Choctaw Indians; Seminole Tribe of Florida (previously listed as Seminole Tribe of Florida (Dania, Big Cypress, Brighton, Hollywood, & Tampa Reservations)); The Chickasaw Nation; The Choctaw Nation of Oklahoma; The Muscogee (Creek) Nation; and The Seminole Nation of Oklahoma.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 4, 2023. If competing requests for repatriation are received, the LMA must determine the most appropriate requestor prior to repatriation. Requests for joint repatriation of the cultural items are considered a single request and not competing requests. The LMA is responsible for sending a copy of this notice to the Indian Tribes identified in this notice.

Authority: Native American Graves Protection and Repatriation Act, 25 U.S.C. 3003, and the implementing regulations, 43 CFR 10.8, § 10.10, and § 10.14.

Dated: November 23, 2022.
Melanie O'Brien,
Manager, National NAGPRA Program.

[FR Doc. 2022-26373 Filed 12-2-22; 8:45 am]

BILLING CODE 4312-52-P